DEPARTMENT OF AGRICULTURE

National Agricultural Statistics Service

Notice of Intent To Seek Approval To Conduct an Information Collection

AGENCY: National Agricultural Statistics Service, USDA.

ACTION: Notice and request for comments.

SUMMARY: In accordance with the Paperwork Reduction Act of 1995, this notice announces the intention of the National Agricultural Statistics Service (NASS) to seek approval to conduct a new information collection, the Wheat and Barley Scab Control Practices Survey.

DATES: Comments on this notice must be received by July 8, 2013 to be assured of consideration.

ADDRESSES: You may submit comments, identified by docket number 0535-NEW, Wheat and Barley Scab Control Practices Survey by any of the following methods:

• Email: ombofficer@nass.usda.gov. Include docket number and title above in the subject line of the message.

• Fax: (202)720-6396

• Mail: Mail any paper, disk, or CD-ROM submissions to: David Hancock, NASS Clearance Officer, U.S. Department of Agriculture, Room 5336A, Mail Stop 2024, South Building, 1400 Independence Avenue SW., Washington, DC 20250-2024.

• Hand Delivery/Courier: Hand deliver to: David Hancock, NASS Clearance Officer, U.S. Department of Agriculture, Room 5336, South Building, 1400 Independence Avenue SW., Washington, DC 20250-2024.

FOR FURTHER INFORMATION CONTACT: Joseph T. Reilly, Associate Administrator, National Agricultural Statistics Service, U.S. Department of Agriculture, (202) 720-4333.

SUPPLEMENTARY INFORMATION:

Title: Wheat and Barley Scab Control Practices Survey.

OMB Control Number: 0535—NEW.

Type of Request: Intent to Seek Approval to Conduct a New Information Collection.

Abstract: The primary objectives of the National Agricultural Statistics Service (NASS) are to prepare and issue State and national estimates of crop production, livestock production, economic statistics, and environmental statistics related to agriculture and to conduct the Census of Agriculture and it's follow-on surveys. This project is conducted as a cooperative effort with the United States Wheat and Barley Scab Initiative which is funded by USDA's Agricultural Research Service (ARS).

NASS will request approval from the Office of Management and Budget (OMB) to conduct a Wheat and Barley Scab Control Practices Survey. This survey is being conducted as a pilot.

The Wheat and Barley Scab Control Practices Survey will use a sampling universe defined as producers that harvest wheat or barley in the following States: AR, IL, IN, KS, KY, MD, MI, MN, MO, NE, NY, NC, ND, OH, PA, SD, and VA. The goal of the overall project is to determine the economic factors which influence scab control measures. Specifically, we hope to determine which practices are utilized to control scab with relation to the types of farms that employ those practices. Data from the initial survey in 2014 may be used as a baseline to compare future surveys against. The next survey will take place in 2016 depending on the results of the first survey and funding. Furthermore, ARS will be able to use the data from this survey to determine the effectiveness of the United States Wheat and Barley Scab Initiative (http://www.scabusa.org).

Authority: These data will be collected under the authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995 (Pub. L. 104-13) and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33376.

Estimate of Burden: Public reporting burden for this collection of information is estimated to average 30 minutes per respondent for a completed questionnaire. NASS will be sending out a survey letter to the respondents with a blank questionnaire for the respondent to review prior to the actual data collection by a phone enumerator. NASS will attempt to achieve a minimum response rate of 80% completed reports. Additional burden will be added to account for the pre-survey materials.

Respondents: Farmers, ranchers, and farm managers that harvest wheat or barley in the following States: AR, IL, IN, KS, KY, MD, MI, MN, MO, NE, NY, NC, ND, OH, PA, SD, and VA.

Estimated Number of Respondents: 32,400.

Estimated Total Annual Burden on Respondents: 15,400 hours.

Copies of this information collection and related instructions can be obtained without charge from the NASS OMB Clearance Officer, at (202) 720-2248.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, through the use of appropriate automated, electronic, mechanical, technological or other forms of information technology collection methods.

All responses to this notice will become a matter of public record and be summarized in the request for OMB approval.

Signed at Washington, DC, April 24, 2013.
Joseph T. Reilly,
Associate Administrator.

[FR Doc. 2013-10707 Filed 5-6-13; 8:45 am]

BILLING CODE 3410-20-P